ENVIRONMENTAL PROTECTION AGENCY

[FRL-8198-3]

Science Advisory Board (SAB) Staff Office; Notification of an Upcoming Teleconference of the Air Quality Modeling Subcommittee of the EPA's Advisory Council on Clean Air Compliance Analysis

AGENCY: Environmental Protection Agency (EPA).

ACTION: Notice.

SUMMARY: The EPA Science Advisory Board (SAB) Staff Office announces a public teleconference of the Air Quality Modeling Subcommittee (AQMS), a subcommittee of the EPA's Advisory Council on Clean Air Compliance Analysis (Council).

DATES: The public teleconference will be held on August 7, 2006, from 1 p.m. to 3 p.m. (eastern daylight time).

FOR FURTHER INFORMATION CONTACT: Members of the public who wish to obtain the call-in number and access code for the teleconference may contact Dr. Holly Stallworth, Designated Federal Officer (DFO), by mail at EPA SAB Staff Office (1400F), U.S. EPA, 1200 Pennsylvania Avenue, NW., Washington, DC 20460; by telephone at (202) 343-9867; or by e-mail at stallworth.holly@epa.gov. General information about the SAB may be found on the SAB Web site at http://www.epa.gov/sab.

SUPPLEMENTARY INFORMATION: Background: The Advisory Council on Clean Air Compliance Analysis is a statutorily-mandated peer review group charged with providing advice, information and recommendations to the Agency on technical and economic aspects of studies prepared by EPA relating to the benefits and costs of the CAA and its Amendments. The Council is a Federal advisory committee chartered under the Federal Advisory Committee Act (FACA), as amended, 5 U.S.C., App. Pursuant to a requirement under section 812 of the 1990 Clean Air Act Amendments, EPA conducts periodic studies to assess the benefits and the costs of the Clean Air Act. The Council has been the chief reviewing body for these studies and has issued advice on a retrospective study issued in 1997, a prospective study issued in 1999, and, since 2003, analytic blueprints for a second prospective study on the costs and benefits of clean air programs covering the years 1990-2020. OAR's Web site on these section 812 studies may be found at: http://www.epa.gov/oar/sect812/.

The AQMS is one of three subcommittees of the Advisory Council on Clean Air Compliance Analysis. The AQMS is charged with providing expert advice on the Office of Air and Radiation's air quality modeling. Pursuant to the Federal Advisory Committee Act, Public Law 92-463, notice is hereby given that the Air Quality Modeling Subcommittee (AQMS) will hold a public teleconference to discuss a draft emissions inventory developed for the EPA Office of Air and Radiation's “Second Prospective Analysis: Benefits and Costs of the Clean Air Act 1990-2020.” Meeting materials and a teleconference agenda will be posted on the SAB Web site provided above prior to the teleconference. The Panel will comply with the provisions of the Federal Advisory Committee Act (FACA) and all appropriate SAB procedural policies.

Procedures for Providing Public Input: Members of the public may submit relevant written or oral information for the AQMS to consider during the advisory process. Oral Statements: In general, individuals or groups requesting an oral presentation at a public teleconference will be limited to three minutes per speaker with no more than a total of fifteen minutes for all speakers. Interested parties should contact the DFO, contact information provided above, in writing via e-mail by July 31, 2006, in order to be placed on the public speaker list. Written Statements: Written statements should be received in the SAB Staff Office by July 31, 2006, so that the information may be made available to the Panel for their consideration. Written statements should be supplied to the DFO in the following formats: One hard copy with original signature, and one electronic copy via e-mail (acceptable file format: Adobe Acrobat, WordPerfect, Word, or Rich Text files (in IBM-PC/Windows 98/2000/XP format).

Meeting Accommodations: For information on access or services for people with disabilities, please contact the DFO, contact information provided above. To request accommodation of a disability please contact the DFO, preferably at least ten business days prior to the meeting, to give EPA as much time as possible to process your request.

Dated: July 11, 2006.
Anthony F. Maciorowski,
Associate Director for Science, EPA Science Advisory Board Staff Office.

[FR Doc. E6-11238 Filed 7-14-06; 8:45 am]

BILLING CODE 6560-50-P